DEPARTMENT OF THE INTERIOR

National Park Service

[NPS-WASO-NAGPRA-11223; 2200-1100-665]

Notice of Inventory Completion: Stanford University Archaeology Center, Stanford, CA

AGENCY: National Park Service, Interior.

ACTION: Notice.

SUMMARY: The Stanford University Archaeology Center has completed an inventory of human remains and associated funerary objects in consultation with the appropriate Indian tribe, and has determined that there is a cultural affiliation between the human remains and a present-day Indian tribe. Representatives of any Indian tribe that believes itself to be culturally affiliated with the human remains may contact the Stanford University Archaeology Center. Repatriation of the human remains to the Indian tribe stated below may occur if no additional claimants come forward.

DATES: Representatives of any Indian tribe that believes it has a cultural affiliation with the human remains and associated funerary objects should contact the Stanford University Archaeology Center at the address below by October 29, 2012.

ADDRESSES: Laura Jones, Director, Heritage Services and University Archaeologist, Archaeology Center, 488 Escondido Mall, Stanford, CA 94305, telephone (650) 723-9664.

SUPPLEMENTARY INFORMATION: Notice is here given in accordance with the Native American Graves Protection and Repatriation Act (NAGPRA), 25 U.S.C. 3003, of the completion of an inventory of human remains and associated funerary objects in the possession of the Stanford University Archaeology Center. The human remains were removed from Marin County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Stanford University Archaeology Center professional staff in consultation with representatives of the Federated Indians of Graton Rancheria, California.

History and Description of the Remains

At an unknown date around 1935, human remains representing, at minimum, eight individuals were removed from a prehistoric archaeological site located in the Inverness Triangle area of Marin County, CA, by Lt. Commander Bryant and his son Clayton Bryant. The collection was transferred to Stanford University by the Bryants without additional documentation. No known individuals were identified. The 248 associated funerary objects are 18 flaked stone artifacts, 4 shell fragments, 84 modified bird bones, 140 unmodified bird bones, and 2 bone tools. Based on the location of removal and in accordance with the information received in the consultation process, the human remains and associated funerary objects are culturally affiliated with the Coast Miwok community, represented in the present-day by the Federated Indians of Graton Rancheria, California

Determinations Made by the Stanford University Archaeology Center

Officials of the Stanford University Archaeology Center have determined that:

• Pursuant to 25 U.S.C. 3001(9), the human remains described in this notice represent the physical remains of eight individuals of Native American ancestry.

• Pursuant to 25 U.S.C. 3001(3)(A), the 248 objects described above are reasonably believed to have been placed with or near individual human remains at the time of death or later as part of the death rite or ceremony.

• Pursuant to 25 U.S.C. 3001(2), there is a relationship of shared group identity that can be reasonably traced between the Native American human remains and the Federated Indians of Graton Rancheria, California.

Additional Requestors and Disposition

Representatives of any Indian tribe that believes itself to be culturally affiliated with the human remains should contact Laura Jones, Director, Heritage Services and University Archaeologist, Archaeology Center, 488 Escondido Mall, Stanford, CA 94305, telephone (650) 723-9664 before October 29, 2012. Repatriation of the human remains and associated funerary objects to the Federated Indians of Graton Rancheria, California, may proceed after that date if no additional claimants come forward.

The Stanford University Archaeology Center is responsible for notifying the Federated Indians of Graton Rancheria, California, that this notice has been published.

Dated: September 5, 2012.
Sherry Hutt,
Manager, National NAGPRA Program.

[FR Doc. 2012-23924 Filed 9-27-12; 8:45 am]

BILLING CODE 4312-50-P